ADMINISTRATIVE CONFERENCE OF THE UNITED STATES

Notice of Public Meeting of the Assembly of the Administrative Conference of the United States

AGENCY: Administrative Conference of the United States.

ACTION: Notice.

SUMMARY: Pursuant to the Federal Advisory Committee Act (5 U.S.C. App.), the Assembly of the Administrative Conference of the United States will hold a meeting to consider four proposed recommendations and to conduct other business. This meeting will be open to the public.

DATES: The meeting will take place on Thursday, June 5, 2014, 2:00 p.m. to 6:00 p.m., and on Friday, June 6, 2014, 9:00 a.m. to 12:15 p.m. The meeting may adjourn early if all business is finished.

ADDRESSES: The meeting will be held at the Commodity Futures Trading Commission, Three Lafayette Centre, 1155 21st Street NW., Washington, DC 20581 (Main Conference Room).

FOR FURTHER INFORMATION CONTACT: Shawne McGibbon, General Counsel (Designated Federal Officer), Administrative Conference of the United States, Suite 706 South, 1120 20th Street NW., Washington, DC 20036; Telephone 202-480-2088; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595).

Agenda: The Assembly will discuss and consider four recommendations as described below:

• Resolving FOIA Disputes Through Targeted ADR Strategies. The OPEN Government Act of 2007 created the Office of Government Information Services (OGIS), a part of the National Archives and Records Administration, to assist in the resolution of disputes arising under the Freedom of Information Act (FOIA). This proposed recommendation suggests ways that OGIS can maximize the effectiveness of its resources to help requesters and agencies resolve FOIA disputes through the use of mediation and other alternatives to litigation. The recommendation also suggests steps that agencies can take to prevent or resolve FOIA disputes, including making FOIA staff and requesters aware of OGIS services and engaging with OGIS and requesters to aid in the resolution of requests.

• Government in the Sunshine Act. This proposed recommendation highlights a set of best practices designed to enhance transparency of decisionmaking at multi-member boards and commissions subject to the Government in the Sunshine Act. Among other things, it urges covered agencies to provide a description of the primary mechanisms for conducting business, describe substantive business disposed of outside of open meetings subject to the Act (with appropriate protections for information made exempt from disclosure), and exploit new technologies to disseminate relevant information more broadly.

• Guidance in the Rulemaking Process. This proposed recommendation identifies a set of best practices for agencies to follow when providing guidance in preambles to final rules. It is aimed at addressing a number of issues regarding agencies' current practices by suggesting ways to improve the drafting and presentation of preambles to final rules. The recommendation also suggests ways agencies can make it easier to identify the guidance provided in these preambles and urges agencies to ensure that small entity compliance guides posted on their Web sites can be easily located.

• Ex Parte Communications in Informal Rulemaking. This proposed recommendation identifies procedures and best practices for managing written and oral communications that may occur between an agency and interested persons, often referred to as “ex parte” communications, regarding the substance of an anticipated or ongoing informal rulemaking proceeding, which are not placed in the docket at the time they occur. The recommendation reaffirms, and builds on, the principles embodied in the Conference's recommendation on the same subject adopted in 1977 (Recommendation 77-3).

Additional information about the proposed recommendations and the order of the agenda, as well as other materials related to the meeting, can be found at the 60th Plenary Session page on the Conference's Web site: (http://www.acus.gov/meetings-and-events/plenary-meeting/60th-plenary-session).

Public Participation: The Conference welcomes the attendance of the public at the meeting, subject to space limitations, and will make every effort to accommodate persons with disabilities or special needs. Members of the public who wish to attend in person are asked to RSVP online at the 60th Plenary Session Web page listed above, no later than two days before the meeting, in order to facilitate entry. Members of the public who attend the meeting may be permitted to speak only with the consent of the Chairman and the unanimous approval of the members of the Assembly. If you need special accommodations due to disability, please inform the Designated Federal Officer noted above at least 7 days in advance of the meeting. The public may also view the meeting through a live webcast, which will be available at: http://acus.granicus.com/ViewPublisher.php?view_id=2. In addition, the public may follow the meeting on our Twitter feed @acusgov or hashtag #60thPlenary.

Written Comments: Persons who wish to comment on any of the proposed recommendations may do so by submitting a written statement either online by clicking “Submit a Comment” on the 60th Plenary Session Web page listed above or by mail addressed to: June 2014 Plenary Session Comments, Administrative Conference of the United States, Suite 706 South, 1120 20th Street NW., Washington, DC 20036. Written submissions must be received no later than Friday, May 23 to assure consideration by the Assembly.

Dated: May 13, 2014.
Shawne McGibbon,
General Counsel.

[FR Doc. 2014-11350 Filed 5-15-14; 8:45 am]

BILLING CODE 6110-01-P